DEPARTMENT OF THE INTERIOR

Minerals Management Service

Outer Continental Shelf (OCS), Pacific Region, Environmental Documents Prepared for Granting Suspensions of Production or Operations for Nine Units and One Non-Unitized Lease Located on the Federal OCS Offshore California

AGENCY: Minerals Management Service (MMS), Interior.

ACTIONS: Notice of Availability of Environmental Assessments (EAs) and Findings of No Significant Impact (FONSI).

SUMMARY: The MMS prepared six EAs for processing applications for Suspensions of Production or Operations for nine units and one non-unitized lease located on the Pacific OCS and issued a FONSI for each EA pursuant to the requirements of the National Environmental Policy Act (NEPA). These environmental documents are available on MMS's Web site at http://www.mms.gov/omm/pacific.

FOR FURTHER INFORMATION CONTACT: Minerals Management Service, Pacific OCS Region, 770 Paseo Camarillo, Camarillo, California 93010, Mr. Maurice Hill, telephone (805) 389-7815.

SUPPLEMENTARY INFORMATION: A suspension is defined as a deferral of the requirement to produce or to conduct leaseholding operations. The length of the suspensions analyzed in the EAs varies by application to allow unit/lease operators time to conduct the activities described in their suspension applications. Each EA provides an analysis of activities that would occur during the suspensions and includes three alternatives: (1) Grant Suspension(s) (Proposed Action), (2) Deny Suspension(s), and (3) No Action. A decision by MMS on the suspensions will not take place until after they have been subject to the consistency review process set forth in the Coastal Zone Management Act.

The MMS prepares NEPA documents for Federal OCS oil and gas exploration and development activities and other operations. The MMS prepares EAs to determine whether proposed projects or operations constitute a major Federal action that significantly affects the quality of the human environment as described in NEPA Section 102(2)(C). A FONSI is prepared in those instances where the MMS finds that approval will not result in significant effects on the quality of the human environment. The FONSI briefly presents the basis for that finding and includes a summary or copy of the EA. MMS completed the EAs and issued the FONSIs on February 11, 2005. This Notice constitutes the public Notice of Availability of environmental documents required under the NEPA regulations.

Dated: February 4, 2005.
Thomas A. Readinger,
Associate Director for Offshore Minerals Management.

[FR Doc. 05-3004 Filed 2-15-05; 8:45 am]

BILLING CODE 4310-MR-P